COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds products to the Procurement List that will be furnished by nonprofit agencies employing persons who are blind or have other severe disabilities, and deletes products and services from the Procurement List previously furnished by such agencies.

DATES: Date added to and deleted from the Procurement List: June 30, 2019.

ADDRESSES: Committee for Purchase From People Who Are Blind or Severely Disabled, 1401 S Clark Street, Suite 715, Arlington, Virginia, 22202-4149.

FOR FURTHER INFORMATION CONTACT: Michael R. Jurkowski, Telephone: (703) 603-2117, Fax: (703) 603-0655, or email CMTEFedReg@AbilityOne.gov.

SUPPLEMENTARY INFORMATION:

Additions

On 4/26/2019, the Committee for Purchase From People Who Are Blind or Severely Disabled published notice of proposed additions to the Procurement List.

After consideration of the material presented to it concerning capability of qualified nonprofit agencies to provide the products and impact of the additions on the current or most recent contractors, the Committee has determined that the products listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products to the Government.

2. The action will result in authorizing small entities to furnish the products to the Government.

3. There are no known regulatory alternatives which would accomplish the objectives of the Javits-Wagner-O'Day Act (41 U.S.C. 8501-8506) in connection with the products proposed for addition to the Procurement List.

End of Certification

Accordingly, the following products are added to the Procurement List:

Products

NSNs—Product Names:

MR 11087—Bowl, Collapsible, Pet

MR 11088—Blanket, Pet, Large

MR 11089—Blanket, Pet, Small

MR 11090—Disc, Toy, Dog

Mandatory Source of Supply: Winston-Salem Industries for the Blind, Inc., Winston-Salem, NC

Contracting Activity: Military Resale-Defense Commissary Agency

Deletions

On 4/19/2019 and 4/26/2019, the Committee for Purchase From People Who Are Blind or Severely Disabled published notice of proposed deletions from the Procurement List.

After consideration of the relevant matter presented, the Committee has determined that the products and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the products and services deleted from the Procurement List.

End of Certification

Accordingly, the following products and services are deleted from the Procurement List:

Products

NSNs—Product Names:

8030-00-251-5048—Compound, Corrosion Preventative, Food Equipment, Clear, 1 Gallon

8030-00-251-5049—Compound, Corrosion Preventative, Food Equipment, Clear, 5 Gallons

Mandatory Source of Supply: The Lighthouse for the Blind, St. Louis, MO

Contracting Activity: DLA TROOP SUPPORT, PHILADELPHIA, PA

NSNs—Product Names:

MR 334—Turner, Omelet

Mandatory Source of Supply: Cincinnati Association for the Blind, Cincinnati, OH

Contracting Activity: Military Resale-Defense Commissary Agency

NSN—Product Name:

7510-00-223-6813—Fastener, Paper, 3″ Capacity with Compressor, 2-3/4″ Center

Mandatory Source of Supply: Delaware County Chapter, NYSARC, Inc., Walton, NY

Contracting Activity: GSA/FAS ADMIN SVCS ACQUISITION BR(2, NEW YORK, NY

Services

Service Type: Janitorial/Custodial

Mandatory for: U.S. Army Reserve Center: 10 Scenic Drive, Washington, PA

Mandatory Source of Supply: UNKNOWN

Contracting Activity: DEPT OF THE ARMY, W6QM MICC CTR-FT DIX (RC)

Service Type: Janitorial/Custodial

Mandatory for: US Army Contracting Command, Sutcovoyo USAR Center, Waterbury, CT

Mandatory Source of Supply: Allied Community Services, Inc., Enfield, CT

Contracting Activity: DEPT OF THE ARMY, W6QK ACC-PICA

Service Type: Food Service Attendant

Mandatory for: West Virginia Air National Guard, Charleston, WV

Mandatory Source of Supply: UNKNOWN

Contracting Activity: DEPT OF THE AIR FORCE, FA7014 AFDW PK

Service Type: Food Service Attendant

Mandatory for: US Air Force, 183rd Capital Airport ANGB, Aerospace Dining Facility, Bldg. P-48, Springfield, IL

Mandatory Source of Supply: United Cerebral Palsy of the Land of Lincoln, Springfield, IL

Contracting Activity: DEPT OF THE ARMY, W7M6 USPFO ACTIVITY IL ARNG

Service Type: Janitorial/Custodial

Mandatory for: U.S. Army Reserve Center: AMSA 69, 26 Seamans Lane, Milford, CT

Mandatory Source of Supply: CW Resources, Inc., New Britain, CT

Contracting Activity: DEPT OF THE ARMY, W6QM MICC-FT DIX (RC-E)

Service Type: Mess Attendant Services

Mandatory for: 131st Fighter Wing, ANGU—Lambert Air Base, Bridgeton, MO

Mandatory Source of Supply: Challenge Unlimited, Inc., Alton, IL

Contracting Activity: DEPT OF THE ARMY, W7NJ USPFO ACTIVITY MO ARNG

Service Type: Administrative Services

Mandatory for: Honolulu Property Management Office: Prince Kuhio Federal Building, Honolulu, HI

Mandatory Source of Supply: Goodwill Contract Services of Hawaii, Inc., Honolulu, HI

Contracting Activity: GENERAL SERVICES ADMINISTRATION, FPDS AGENCY COORDINATOR

Service Type: Administrative Services

Mandatory for: GSA, Los Angeles: Federal Protective Services, Los Angeles, CA

Mandatory Source of Supply: UNKNOWN

Contracting Activity: GENERAL SERVICES ADMINISTRATION, FPDS AGENCY COORDINATOR

Service Type: System Furniture Reuse Services

Mandatory for: US Air Force, North American Aerospace Defense Command & US Northern Command, Building 2, 250 Vandenberg Street, Peterson AFB, CO

Mandatory Source of Supply: AspenPointe Employment, Colorado Springs, CO

Contracting Activity: DEPT OF THE AIR FORCE, FA2517 21 CONS LGC

Service Type: Janitorial/Custodial

Mandatory for: U.S. Army Reserve Center: 54 Alfred Plourde, Lewiston, ME

Mandatory Source of Supply: Northern New England Employment Services, Portland, ME

Contracting Activity: DEPT OF THE ARMY, W6QM MICC-FT DIX (RC-E)

Service Type: Janitorial/Custodial

Mandatory for: U.S. Army Reserve Center: Kirkwood, Wilmington, DE

Mandatory Source of Supply: Opportunity Center, Incorporated, Wilmington, DE

Contracting Activity: DEPT OF THE ARMY, W6QM MICC CTR-FT DIX (RC)

Service Type: Janitorial/Custodial

Mandatory for: Landrum Federal Building and U.S. Post Office, Jasper, GA

Mandatory Source of Supply: Goodwill Industries of North Georgia, Inc., Atlanta, GA

Contracting Activity: PUBLIC BUILDINGS SERVICE, ACQUISITION DIVISION/SERVICES BRANCH

Service Type: Janitorial/Elevator Operator

Mandatory for: Southeast Federal Center: Buildings 74, 158, 191, 197 and 202, Washington, DC

Mandatory Source of Supply: Davis Memorial Goodwill Industries, Washington, DC

Contracting Activity: GENERAL SERVICES ADMINISTRATION, FPDS AGENCY COORDINATOR

Service Type: Janitorial/Custodial

Mandatory for: Old Post Office Building, Washington, DC

Mandatory Source of Supply: Davis Memorial Goodwill Industries, Washington, DC

Contracting Activity: PUBLIC BUILDINGS SERVICE, WPHCB—EAST O&M CONTRACTS BRANCH

Michael R. Jurkowski,
Deputy Director, Business & PL Operations.

[FR Doc. 2019-11404 Filed 5-30-19; 8:45 am]

BILLING CODE 6353-01-P